ENVIRONMENTAL PROTECTION AGENCY

[FRL-8169-7]

Notice of Open Meeting, Environmental Financial Advisory Board (EFAB), Workshop on the Use of Captive Insurance as a Financial Assurance Mechanism

AGENCY: Environmental Protection Agency (EPA).

ACTION: Notice.

SUMMARY: The United States Environmental Protection Agency's Environmental Financial Advisory Board will hold an open meeting of its Financial Assurance Project Workgroup.

EFAB is chartered with providing analysis and advice to the EPA Administrator and EPA program offices on issues relating to environmental finance. The purpose of this meeting is for the EFAB to gather information and ideas with respect to the use of captive insurance as a financial assurance tool in EPA programs. The day will be structured to address this issue via a series of presentations and panel discussions involving Federal environmental officials, State insurance regulators, insurance rating and information analysts, insurance industry professionals, and State environmental regulators.

The meeting is open to the public with seating available on a first come first served basis. Due to building security requirements, all members of the public who wish to attend the meeting must register in advance no later than Monday, June 17, 2006.

DATES: June 27, 2006 from 9 a.m.-3:30 p.m.

ADDRESSES: ConEdison, 4 Irving Place, 19th Floor Auditorium, New York, NY 10003.

FOR FURTHER INFORMATION CONTACT: To register for the workshop or to obtain further information, contact Timothy McProuty, U.S. EPA, EFAB Staff, at 202-564-4996 or mcprouty.timothy@epa.gov.

For information on access or services for individuals with disabilities, please contact Timothy McProuty at 202-564-4996 or mcprouty.timothy@epa.gov. To request accommodation of disability, please contact Timothy McProuty, preferably at least 10 days prior to the meeting, to give EPA as much time as possible to process your request.

Dated: May 3, 2006.
Joseph Dillon,
Director, Office of Enterprise Technology and Innovation.

[FR Doc. E6-7339 Filed 5-12-06; 8:45 am]

BILLING CODE 6560-50-P